Proclamation 10945 of May 24, 2025

Prayer for Peace, Memorial Day, 2025

By the President of the United States of America

A Proclamation

Memorial Day is a sacred day of remembrance, reverence, and gratitude for the brave patriots who have laid down their lives in service to our great Nation. Throughout our history, brave men and women have been called to defend the cause of liberty on foreign shores in defense of our homeland. Their noble sacrifices are marked by flag-draped coffins and the silent sorrows of those left behind. We must never forget those who have given everything for our country.

America's Gold Star Families—whose sons, daughters, wives, and husbands are among the honored—endure unfathomable heartache. Their loved ones selflessly gave everything to protect our sovereignty. They have our unwavering support, deepest gratitude, and highest respect. The lives lost in war serve as a solemn reminder of why we must pursue peace through strength.

We are eternally indebted to our Nation's fallen heroes. On this solemn day, as we honor their sacrifice, the First Lady and I ask all citizens to join us in prayer that Almighty God may comfort those who mourn, grant protection to all who serve, and bring blessed peace to the world.

In honor of all of our fallen heroes, the Congress, by a joint resolution approved May 11, 1950, as amended (36 U.S.C. 116), has requested the President issue a proclamation calling on the people of the United States to observe each Memorial Day as a day of prayer for permanent peace and designating a period on that day when the people might unite in prayer. The Congress, by Public Law 106-579, has also designated 3:00 p.m. local time on that day as a time for all Americans to observe, in their own way, the National Moment of Remembrance.

NOW, THEREFORE, I, DONALD J. TRUMP, President of the United States of America, do hereby proclaim Memorial Day, May 26, 2025, as a day of prayer for permanent peace, and I designate the hour beginning in each locality at 11:00 a.m. of that day as a time when people might unite in prayer. I ask all Americans to observe the National Moment of Remembrance beginning at 3:00 p.m. local time on Memorial Day. I also request the Governors of the United States and its Territories, and the appropriate officials of all units of government, to direct that on Memorial Day the flag be flown at half-staff until noon on all buildings, grounds, and naval vessels throughout the United States and in all areas under its jurisdiction and control. I also request citizens to display the flag at half-staff from their homes for the customary forenoon period.

IN WITNESS WHEREOF, I have hereunto set my hand this twenty-fourth day of May, in the year of our Lord two thousand twenty-five, and of the Independence of the United States of America the two hundred and forty-ninth.

[FR Doc. 2025-09875

Filed 5-28-25; 11:15 am]

Billing code 3395-F4-P